ENVIRONMENTAL PROTECTION AGENCY

[FRL-6937-4]

Proposed CERCLA Administrative Settlement—Rocky Flats Industrial Park, Jefferson County, CO

AGENCY: Environmental Protection Agency.

ACTION: Notice and request for public comment.

SUMMARY: In accordance with the requirements of Section 122(i) of the Comprehensive Environmental Response, Compensation, and Liability Act, as amended (“CERCLA”), 42 U.S.C. 9622(i), notice is hereby given of the proposed administrative settlement under Section 122(g) of CERCLA, 42 U.S.C. 9622, concerning the Rocky Flats Industrial Park site between EPA, the State of Colorado, and the settling parties listed in the Supplementary Information portion of this notice. The Rocky Flats Industrial Park Superfund Site, is located in the 17,000 block of West Highway 72, approximately 2½ miles east of the intersection of State Highways 72 and 93 in unincorporated Jefferson County, Colorado near the City of Arvada (“Site”). The settlement, embodied in proposed Administrative Order on Consent for Removal Action, EPA Docket No. CERCLA-8-2000-20 (“AOC”), is designed to partially resolve each settling party's liability at the Site through a covenant not to sue for past response costs, and for work performed, under Sections 104 and 107 of CERCLA, 42 U.S.C. 9604 and 9607. The proposed AOC requires the Potentially Responsible Parties (“PRPs”) listed below to implement the selected response actions at the Site.

Opportunity for Comment: For thirty (30) days following the date of publication of this notice, the Agency will consider all comments received and may modify or withdraw its consent to the settlement if comments received disclose facts or considerations which indicate that the settlement is inappropriate, improper, or inadequate. The Agency's response to any comments received will be available for public inspection at the EPA Superfund Record Center, 999 18th Street, 5th Floor, in Denver, Colorado. Commenters may request an opportunity for a public meeting in the affected area in accordance with Section 7003(d) of RCRA, 42 U.S.C. 6973(d).

DATES: Comments must be submitted on or before February 26, 2001.

ADDRESSES: The proposed settlement and additional background information relating to the settlement are available for public inspection at the EPA Superfund Records Center, 999 18th Street, 5th Floor, in Denver, Colorado. Comments and requests for a copy of the proposed settlement should be addressed to Carol Pokorny, Enforcement Specialist (8ENF-T), Technical Enforcement Program, U.S. Environmental Protection Agency, 999 18th Street, Suite 300, Denver, Colorado 80202-2466, and should reference the Rocky Flats Industrial Park Site, Jefferson County, Colorado and EPA Docket Nos. CERCLA 8-2000-20.

FOR FURTHER INFORMATION CONTACT: Carol Pokorny, Enforcement Specialist (8ENF-T), Technical Enforcement Program, U.S. Environmental Protection Agency, 999 18th Street, Suite 300, Denver, Colorado 80202-2466, (303) 312-6970.

SUPPLEMENTARY INFORMATION: Notice of proposed administrative settlement under Section 122 of CERCLA, 42 U.S.C. 9622: In accordance with Section 122 of CERCLA, 42 U.S.C. 9622, notice is hereby given that the terms of the Administrative Order on Consent (“AOC”) have been agreed to by the following settling parties:

Settling Parties

Adoph Coors Company

Ball Corporation

CoorsTek, Inc. (a/k/a Coors Ceramics Company)

Crown, Cork and Seal Company, Inc.

The Denver Post Corporation

Eastman Kodak Company

Eaton Corporation

Hamilton Sundstrand Corporation

Hwelett-Packard Company

Roche Colorado Corporation

Sterling Stainless Tube Corporation

Zenco de Chihuahua, S.A. de C.V., and

Zenith Electronics Corporation of Texas

By the terms of the proposed AOC, the settling parties will perform a CERCLA Removal Action which involves the installation of an air sparging/soil vapor extraction system on two of the three industrial properties that comprise the Site (the properties owned by Thoro Products Company and Hwy. 72 Properties, Inc.). The estimated future cost to the settling parties to perform the Removal Action is $3,715,000.

The United States and the State are providing the settling parties with a covenant not to sue under Sections 106 and 107(a) of CERCLA, 42 U.S.C. 9606 and 9607(a), the Solid Waste Disposal Act, as amended (also known as the Resource Conservation and Recovery Act), federal claims for natural resources damages, and state law related to the presence or migration of hazardous substances on the Site for: the work performed under the AOC, response actions associated with the GWI facility at the Site, and specific work performed by the settling parties in the past at the Site.

It is so agreed:
Dated: October 12, 2000.
Jack W. McGraw,
Acting Regional Administrator, Environmental Protection Agency, Region VIII.

[FR Doc. 01-2173 Filed 1-24-01; 8:45 am]

BILLING CODE 6560-50-M